DEPARTMENT OF THE INTERIOR

National Park Service

[NPS-PWR-GOGA-24579; PPPWGOGAPO, PPMPSPD1Z.YM0000]

Termination Notice for the Dog Management Plan and Environmental Impact Statement, Golden Gate National Recreation Area, California

AGENCY: National Park Service, Interior.

ACTION: Notice of termination of Environmental Impact Statement.

SUMMARY: The National Park Service (NPS) has cancelled its planning process for the Golden Gate National Recreation Area dog management plan, and no longer intends to issue a Record of Decision.

DATES: The associated environmental impact statement (EIS) is terminated as of December 27, 2017.

FOR FURTHER INFORMATION CONTACT: Dana Polk, Public Affairs Office, Park Headquarters, Fort Mason, Building 201, San Francisco, CA 94123; phone 415-561-4728.

SUPPLEMENTARY INFORMATION: Pursuant to the National Environmental Policy Act (NEPA) and the regulations implementing NEPA (40 CFR parts 1500-1508 and 43 CFR part 46), the NPS published a notice of intent to prepare an EIS in the Federal Register on February 22, 2006 (71 FR 9147). The NPS has now cancelled that planning process, and terminated the associated NEPA and rulemaking processes. No Record of Decision or final rule will be issued.

Dated: December 19, 2017.
Martha J. Lee,
Acting Regional Director, Pacific West Region.

[FR Doc. 2017-27826 Filed 12-26-17; 8:45 am]

BILLING CODE 4312-52-P